DEPARTMENT OF COMMERCE

International Trade Administration

[A-337-806]

Notice of Final Determination of Sales at Less Than Fair Value: IQF Red Raspberries from Chile

AGENCY: Import Administration, International Trade Administration, Department of Commerce.

ACTION: Notice of final determination of sales at less than fair value.

SUMMARY: The Department of Commerce has conducted an antidumping duty investigation of IQF red raspberries from Chile. We determine that individually quick frozen (“IQF”) red raspberries from Chile are being sold in the United States at less than fair value, as provided in section 735(a) of the Tariff Act of 1930, as amended. On December 31, 2001, the Department of Commerce published its preliminary determination of sales at less than fair value of IQF red raspberries from Chile. Based on the results of verification and our analysis of the comments received, we have made changes in the margin calculations. Therefore, this final determination differs from the preliminary determination. The final weighted-average dumping margins are listed below in the section entitled Continuation of Suspension of Liquidation.

EFFECTIVE DATE: May 21, 2002.

FOR FURTHER INFORMATION CONTACT: Cole Kyle or Blanche Ziv, Import Administration, International Trade Administration, U.S. Department of Commerce, 14th Street and Constitution Avenue, NW, Washington, DC 20230; telephone: (202) 482-1503, or (202) 482-4207, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR Part 351 (April 2001).

Case History

Since the publication of the preliminary determination in this investigation (see Notice of Preliminary Determination of Sales at Less Than Fair Value and Postponement of Final Determination: IQF Red Raspberries From Chile, 66 FR 67510 (December 31, 2001) (“Preliminary Determination”)), the following events have occurred:

On January 9, 2002, the petitioners and the respondents submitted ministerial error allegations regarding the Department's preliminary margin calculations. For a detailed discussion of the allegations and the Department's analysis, seeMemorandum to Richard W. Moreland, “Ministerial Errors in the Preliminary Determination in the Antidumping Duty Investigation of Individually Quick Frozen (IQF) Red Raspberries from Chile” (“Ministerial Errors Memo”) dated January 15, 2002, which is on file in the Import Administration's Central Records Unit (“CRU”), Room B-099 of the main Department of Commerce building.

In January and February 2002, we conducted verifications of the questionnaire responses submitted by Comercial Fruticola (“Comfrut”), Exportadora Frucol (“Frucol”), and Fruticola Olmue (“Olmue”) (collectively, “the respondents”). We issued verification reports in March and April 2002. See “Verification” section of this notice for further discussion.

The petitioners and respondents filed case and rebuttal briefs, respectively, on April 15 and April 18, 2002. At the request of the petitioners, the Department held a public hearing on April 22, 2002.

Scope of Investigation

The products covered by this investigation are imports of IQF whole or broken red raspberries from Chile, with or without the addition of sugar or syrup, regardless of variety, grade, size or horticulture method (e.g., organic or not), the size of the container in which packed, or the method of packing. The scope of the investigation excludes fresh red raspberries and block frozen red raspberries (i.e., puree, straight pack, juice stock, and juice concentrate).

The merchandise subject to this investigation is classifiable under section 0811.20.2020 of the Harmonized Tariff Schedule of the United States (“HTSUS”). Although the HTSUS subheading is provided for convenience and customs purposes, the written description of the merchandise under investigation is dispositive.

Period of Investigation

The period of investigation (“POI”) is April 1, 2000, through March 31, 2001.

Fair Value Comparisons

To determine whether sales of IQF red raspberries from Chile to the United States were made at less than fair value, we compared export price (“EP”) to normal value (“NV”). Our calculations follow the methodologies described in the Preliminary Determination, except as noted below and in each individual respondent's calculation memorandum, dated May 15, 2002, which are on file in the Department's CRU.

Export Price

For sales to the United States, we used EP as defined in section 772(a) of the Act. We calculated EP based on the same methodologies described in the Preliminary Determination, with the following exceptions:

Comfrut

We corrected certain ministerial errors from the preliminary determination (see the January 15, 2002 Ministerial Errors Memo). We revised reported amounts, where appropriate, with respect to international freight, shipping date, and direct selling expenses based on information obtained at verification. We also revised the reported amounts for warehousing expenses, indirect selling expenses, and inventory carrying costs. For further information, see the May 15, 2002 calculation memorandum for Comfrut (“Comfrut Calculation Memorandum”) and the March 22, 2002 sales verification report for Comfrut (“Comfrut Sales Verification Report”).

Frucol

We corrected certain ministerial errors from the preliminary determination (see the Ministerial Errors Memo). We revised reported amounts, where appropriate, with respect to payment date, inland freight, indirect selling expenses, credit expenses, gross unit price, and brokerage expenses based on information collected at verification. We also revised the reported amounts for packing and direct selling expenses. For further information, see the May 15, 2002 calculation memorandum for Frucol (“Frucol Calculation Memorandum”) and the March 7, 2002 sales verification report for Frucol (“Frucol Sales Verification Report”).

Olmue

We corrected certain ministerial errors from the preliminary determination (see the Ministerial Errors Memo). We revised reported amounts for international freight, gross unit price, and direct selling expenses for several sales based on information obtained at verification. We also revised the reported amount for indirect selling expenses and inventory carrying costs. For further information, see the May 15, 2002 calculation memorandum for Olmue (“Olmue Calculation Memorandum”) and the April 3, 2002 sales verification report for Olmue (“Olmue Sales Verification Report”).

Normal Value

We used the same methodology as that described in the preliminary determination to determine the cost of production (“COP”), whether comparison market sales were at prices below the COP, and the NV, with the following exceptions:

1. Cost of Production Analysis

Comfrut

We made adjustments to Comfrut's costs based on verification findings (see Comfrut Calculation Memorandum and the March 6, 2002 cost verification report for Comfrut). We are not making the major input adjustment made in the preliminary determination. For further information, see the Comfrut Calculation Memorandum.

Frucol

We have calculated a single, weighted-average cost of fresh raspberries for Frucol. For the reasons discussed in our response to Comment 1 in the May 15, 2002 Issues and Decision Memorandum for the Antidumping Duty Investigation of IQF Red Raspberries from Chile; Final Determination(“Decision Memorandum”), we have used market prices for the berries grown by Frucol and, for the reasons discussed in response to Comment 3 in the Decision Memorandum, we have used the higher of market or transfer prices for the berries purchased by Frucol's affiliated supplier. Also, based on our findings at verification, we made revisions to Frucol's interest expense and total cost of manufacturing, including, direct labor, SG&A, variable overhead, and fixed overhead. See the Frucol Calculation Memorandum, the April 2, 2002 cost verification report for Frucol (“Frucol's Cost Verification Report”) and Comments 1, 2, 4, 5, and 6 of the Decision Memorandum).

Olmue

Based on our findings at verification, we made revisions to Olmue's total cost of manufacturing, including raw materials, direct labor, variable overhead, and fixed overhead. See the Olmue Calculation Memorandum and the Olmue Cost Verification Report.

2. Calculation of NV

Comfrut

We revised the reported amounts for billing adjustments and credit expenses for certain sales based on information obtained at verification. We also revised the reported amounts for warehousing expenses, indirect selling expenses, and inventory carrying costs. For further information, see the Comfrut Calculation Memorandum and the Comfrut Sales Verification Report.

Frucol

We corrected certain ministerial errors from the preliminary determination (see the Ministerial Errors Memo ). Based on information collected at verification, we revised the reported form, control number, commissions, and customer code for certain sales. We also revised the reported amounts for packing and direct selling expenses. For further information, see the Frucol Calculation Memorandum and the Frucol Sales Verification Report at Exhibit S-1.

Olmue

We revised reported amounts for gross unit price, brokerage and handling, and direct selling expenses for several sales based on information obtained at verification. We also revised the reported amounts for indirect selling expenses and inventory carrying costs. For further information, see the Olmue Calculation Memorandum and the Olmue Sales Verification Report at Exhibit S-1.

Currency Conversions

We made currency conversions in accordance with section 773A of the Act in the same manner as in the preliminary determination.

Verification

As provided in section 782(i)(1) of the Act, we verified the information submitted by all responding companies during January and February 2002. We used standard verification procedures, including examination of relevant accounting and production records, as well as original source documents provided by the respondent.

Analysis of Comments Received

All issues raised in the case and rebuttal briefs by parties to this investigation are addressed in the Decision Memorandum, which is hereby adopted by this notice. Attached to this notice as an appendix is a list of the issues which parties have raised and to which we have responded in the Decision Memorandum. Parties can find a complete discussion of all issues raised in this investigation and the corresponding recommendations in this public memorandum, which is on file in the Department's CRU. In addition, a complete version of the Decision Memorandum can be accessed directly on the Web at http://ia.ita.doc.gov/frn. The paper copy and electronic version of the Decision Memorandum are identical in content.

Continuation of Suspension of Liquidation

In accordance with section 735(c)(1)(B) of the Act, we are directing the U.S. Customs Service (“Customs”) to continue to suspend liquidation of all imports of IQF red raspberries from Chile (except for entries from Comercial Fruticola and Exportadora Frucol) that are entered, or withdrawn from warehouse, for consumption on or after December 31, 2001, the date of publication of the Preliminary Determination in the Federal Register. Comercial Fruticola and Exportadora Frucol have de minimis and zero margins, respectively, and will be excluded from the antidumping duty order, if issued. Customs shall continue to require a cash deposit or the posting of a bond equal to the weighted-average amount by which the NV exceeds the EP, as appropriate, as indicated in the chart below. These suspension of liquidation instructions will remain in effect until further notice.

The weighted-average dumping margins are as follows:

Exporter/Manufacturer | Weighted-Average Margin ­Percentage
Comercial Fruticola | 0.50 percent ­(de minimis)
Exportadora Frucol | 0.00 percent
Fruticola Olmue | 5.98 percent
All Others | 5.98 percent

Pursuant to section 735(c)(5)(A), we have excluded from the calculation of the all others rate margins which are zero or de minimis.

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury, does not exist, the proceeding will be terminated and all securities posted will be refunded or canceled. If the ITC determines that such injury does exist, the Department will issue an antidumping duty order.

This notice also serves as a reminder to parties subject to administrative protective order (“APO”) of their responsibility concerning the disposition of proprietary information disclosed under APO in accordance with 19 CFR 351.305. Timely notification of return or destruction of APO materials, or conversion to judicial protective order, is hereby requested. Failure to comply with the regulations and the terms of an APO is a sanctionable violation.

This determination is issued and published in accordance with sections 735(d) and 777(i)(1) of the Act.

Dated: May 15, 2002.
Faryar Shirzad,
Assistant Secretary for Import Administration.

APPENDIX

List of Comments in the Issues and Decision Memorandum

Frucol

Comment 1:COP Methodology

Comment 2: Production Quantities

Comment 3: Frucol's Purchases of Fresh Raspberries

Comment 4: Extraordinary Costs

Comment 5: Unreconciled Differences

Comment 6: General and Administrative Expense Ratio

Comment 7: Third Country Sales

Comment 8: Billing Adjustment

Comfrut

Comment 9: Direct Material Costs

Comment 10: Raw Material Costs

Olmue

Comment 11: COM

Comment 12: Sales to Third Country

Comment 13: CV Profit Rate

[FR Doc. 02-12725 Filed 5-20-02; 8:45 am]

BILLING CODE 3510-DS-S